DEPARTMENT OF HEALTH AND HUMAN SERVICES

National Institutes of Health

Center for Scientific Review; Amended Notice of Meeting

Notice is hereby given of a change in the meeting of the Enabling Bioanalytical and Imaging Technologies Study Section, October 10, 2013, 07:45 a.m. to October 11, 2013, 06:00 p.m., Sheraton Delfina Santa Monica Hotel, 530 West Pico Boulevard, Santa Monica, CA 90405 which was published in the Federal Register on September 12, 2013, 78 FR 177 Pg. 56239.

The meeting will be held at the Renaissance Washington Dupont Circle Hotel, 1143 New Hampshire Ave. NW., Washington, DC 20037. The meeting will start December 17, 2013 at 9:30 a.m. and end December 18, 2013 at 7:00 p.m. The meeting is closed to the public.

Dated: October 31, 2013.
Carolyn A. Baum,
Program Analyst, Office of Federal Advisory Committee Policy.

[FR Doc. 2013-26529 Filed 11-5-13; 8:45 am]

BILLING CODE 4140-01-P